DEPARTMENT OF STATE

[Public Notice 8988]

Shipping Coordinating Committee; Notice of Committee Meeting

The Shipping Coordinating Committee (SHC) will conduct an open meeting at 9:30 a.m. on Tuesday January 20, 2015, in Room 8 of the DOT Conference Center which is in the West building, 1200 New Jersey Ave. SE., Washington, DC 20590. The primary purpose of the meeting is to prepare for the second Session of the International Maritime Organization's (IMO) Sub-Committee on Human Element, Training and Watchkeeping (HTW) to be held at the IMO Headquarters, United Kingdom, February 2-06, 2015.

The agenda items to be considered include:

—Decisions of other IMO bodies

—Validated model training courses

—Reports on unlawful practices associated with certificates of competency

— Revised guidelines for model course development, updating and validation processes

—Guidance for the implementation of the 2010 Manila Amendments

—Follow-up action to the STCW-F Conference resolutions 6 and 7

—Role of the human element

—Development of guidance for personnel involved with tug-barge operations

—Revision of guidance for model course development, updating and validation processes

—Mandatory Code for ships operating in polar waters

—Review of STCW passenger ship specific safety training

—Training in hot work procedures on crude oil tankers

—First outline of the detailed review of the Global Maritime Distress and Safety System (GMDSS)

—E-navigation strategy implementation plan

—Guidelines for shipowners and seafarers for implementation of relevant IMO instruments in relation to the carriage of dangerous goods in packaged form by sea

—Non-mandatory instrument on regulations for non-convention ships

Members of the public may attend this meeting up to the seating capacity of the room. To facilitate the building security process, and to request reasonable accommodation, those who plan to attend should contact the meeting coordinator, Mr. Davis J. Breyer, by email at davis.j.breyer@uscg.mil, by phone at (202) 372-1445, by fax at (202) 372-8283, or in writing at Commandant (CG-OES-1), U.S. Coast Guard Stop 7509, 2703 Martin Luther King Jr. Ave. SE., Washington, DC 20593-7509 not later than January 9, 2015, 11 days prior to the meeting. Requests made after January 9, 2015 might not be able to be accommodated. Please note that due to security considerations, two valid, government issued photo identifications must be presented to gain entrance to the DOT Conference Center. The DOT Conference Center is accessible by taxi and privately owned conveyance (public transportation is not generally available). However, parking in the vicinity of the building is extremely limited. Additional information regarding this and other IMO SHC public meetings may be found at: www.uscg.mil/imo.

Dated: December 18, 2014.
Marc Zlomek,
Executive Secretary, Shipping Coordinating Committee, Department of State.

[FR Doc. 2014-30711 Filed 12-30-14; 8:45 am]

BILLING CODE 4710-09-P